DEPARTMENT OF ENERGY

Federal Energy Regulatory Commission

Combined Notice of Filings #1

Take notice that the Commission received the following exempt wholesale generator filings:

Docket Numbers: EG21-225-000.

Applicants: Bat Cave Energy Storage, LLC.

Description: Notice of Self-Certification of Exempt Wholesale Generator Status of Bat Cave Energy Storage, LLC.

Filed Date: 8/20/21.

Accession Number: 20210820-5255.

Comment Date: 5 p.m. ET 9/10/21.

Docket Numbers: EG21-226-000.

Applicants: BRP Dickinson BESS LLC.

Description: Notice of Self-Certification of Exempt Wholesale Generator Status of BRP Dickinson BESS LLC.

Filed Date: 8/20/21.

Accession Number: 20210820-5256.

Comment Date: 5 p.m. ET 9/10/21.

Docket Numbers: EG21-227-000.

Applicants: BRP Pueblo I BESS, LLC.

Description: Notice of Self-Certification of Exempt Wholesale Generator Status of BRP Pueblo I BESS, LLC.

Filed Date: 8/20/21.

Accession Number: 20210820-5257.

Comment Date: 5 p.m. ET 9/10/21.

Docket Numbers: EG21-228-000.

Applicants: BRP Pueblo II BESS, LLC.

Description: Notice of Self-Certification of Exempt Wholesale Generator Status of BRP Pueblo II BESS, LLC.

Filed Date: 8/20/21.

Accession Number: 20210820-5258.

Comment Date: 5 p.m. ET 9/10/21.

Docket Numbers: EG21-229-000.

Applicants: BRP Zapata I BESS, LLC.

Description: Notice of Self-Certification of Exempt Wholesale Generator Status of BRP Zapata I BESS, LLC.

Filed Date: 8/20/21.

Accession Number: 20210820-5259.

Comment Date: 5 p.m. ET 9/10/21.

Docket Numbers: EG21-230-000.

Applicants: BRP Zapata II BESS, LLC.

Description: Notice of Self-Certification of Exempt Wholesale Generator Status of BRP Zapata II BESS, LLC.

Filed Date: 8/20/21.

Accession Number: 20210820-5260.

Comment Date: 5 p.m. ET 9/10/21.

Docket Numbers: EG21-231-000.

Applicants: BRP Loop 463 BESS LLC.

Description: Notice of Self-Certification of Exempt Wholesale Generator Status of BRP Loop 463 BESS LLC.

Filed Date: 8/20/21.

Accession Number: 20210820-5262.

Comment Date: 5 p.m. ET 9/10/21.

Docket Numbers: EG21-232-000.

Applicants: BRP Lopeno BESS LLC.

Description: Notice of Self-certification of Exempt Wholesale Generator Status of BRP Lopeno BESS LLC.

Filed Date: 8/20/21.

Accession Number: 20210820-5261.

Comment Date: 5 p.m. ET 9/10/21.

Docket Numbers: EG21-233-000.

Applicants: North Fork Energy Storage, LLC.

Description: Notice of Self-Certification of Exempt Wholesale Generator Status of North Fork Energy Storage, LLC.

Filed Date: 8/20/21.

Accession Number: 20210820-5263.

Comment Date: 5 p.m. ET 9/10/21.

Take notice that the Commission received the following electric rate filings:

Docket Numbers: ER20-2609-001.

Applicants: NSTAR Electric Company.

Description: Compliance filing: Order No. 864 Compliance Filing, RM19-5 to be effective 1/27/2020.

Filed Date: 8/26/21.

Accession Number: 20210826-5107.

Comment Date: 5 p.m. ET 9/16/21.

Docket Numbers: ER20-2610-001.

Applicants: The Connecticut Light and Power Company.

Description: Compliance filing: Order No. 864 Compliance Filing, RM19-5 to be effective 1/27/2020.

Filed Date: 8/26/21.

Accession Number: 20210826-5056.

Comment Date: 5 p.m. ET 9/16/21.

Docket Numbers: ER21-283-001.

Applicants: Hillcrest Solar I, LLC.

Description: Compliance filing: Compliance to 2 Zero rate filing to be effective 2/27/2021.

Filed Date: 8/26/21.

Accession Number: 20210826-5088.

Comment Date: 5 p.m. ET 9/16/21.

Docket Numbers: ER21-283-002.

Applicants: Hillcrest Solar I, LLC.

Description: Compliance filing: Compliance to 2 Rate filing July Effective to be effective 7/29/2021.

Filed Date: 8/26/21.

Accession Number: 20210826-5089.

Comment Date: 5 p.m. ET 9/16/21.

Docket Numbers: ER21-922-000.

Applicants: Entergy Mississippi, LLC.

Description: Refund Report: EML-TVA WDS Refund Report to be effective N/A.

Filed Date: 8/26/21.

Accession Number: 20210826-5014.

Comment Date: 5 p.m. ET 9/16/21.

Docket Numbers: ER21-2771-000.

Applicants: PJM Interconnection, L.L.C.

Description: § 205(d) Rate Filing: Revisions to OATT, Att. P re: Interconnection Construction Service Agreement to be effective 10/26/2021.

Filed Date: 8/26/21.

Accession Number: 20210826-5034.

Comment Date: 5 p.m. ET 9/16/21.

Docket Numbers: ER21-2772-000.

Applicants: PJM Interconnection, L.L.C.

Description: § 205(d) Rate Filing: Original NSA, SA No. 6127; Queue No. AC1-073 to be effective 7/27/2021.

Filed Date: 8/26/21.

Accession Number: 20210826-5054.

Comment Date: 5 p.m. ET 9/16/21.

Docket Numbers: ER21-2773-000.

Applicants: Alabama Power Company.

Description: Tariff Amendment: RES America Developments (Durant Bend Solar) LGIA Termination Filing to be effective 8/26/2021.

Filed Date: 8/26/21.

Accession Number: 20210826-5055.

Comment Date: 5 p.m. ET 9/16/21.

Docket Numbers: ER21-2774-000.

Applicants: PJM Interconnection, L.L.C.

Description: § 205(d) Rate Filing: Revisions to Sch. 12-Appx A: July 2021 RTEP, 30-Day Comment Period Requested to be effective 11/24/2021.

Filed Date: 8/26/21.

Accession Number: 20210826-5071.

Comment Date: 5 p.m. ET 9/16/21.

Docket Numbers: ER21-2775-000.

Applicants: Spartacus Energy Services, LLC.

Description: Baseline eTariff Filing: Market-Based Rate Tariff Application to be effective 8/27/2021.

Filed Date: 8/26/21.

Accession Number: 20210826-5073.

Comment Date: 5 p.m. ET 9/16/21.

Docket Numbers: ER21-2776-000.

Applicants: Ameren Illinois Company.

Description: § 205(d) Rate Filing: Reimbursement Agreement, RS 155, Prairie Power West Griggsville to be effective 10/26/2021.

Filed Date: 8/26/21.

Accession Number: 20210826-5075.

Comment Date: 5 p.m. ET 9/16/21.

Docket Numbers: ER21-2777-000.

Applicants: NorthWestern Corporation.

Description: § 205(d) Rate Filing: SA 932—Forecast Data Agreement with Cycle Horseshoe Bend Wind LLC to be effective 9/1/2021.

Filed Date: 8/26/21.

Accession Number: 20210826-5082.

Comment Date: 5 p.m. ET 9/16/21.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2021.
Debbie-Anne A. Reese,
Deputy Secretary.

[FR Doc. 2021-18900 Filed 8-31-21; 8:45 am]

BILLING CODE 6717-01-P